DEPARTMENT OF ENERGY

Federal Energy Regulatory Commission

[Docket No. CP19-78-000]

PennEast Pipeline Company, LLC; Notice of Application for Amendment

Take notice that on February 1, 2019 PennEast Pipeline Company, LLC, One Meridian Boulevard, Suite 2C01, Wyomissing, PA 19610, filed an application under section 7(c) of the Natural Gas Act (NGA) and Part 157 of the Commission's regulations to amend the certificate of public convenience and necessity and related authorizations issued by the Commission on January 19, 2018 in Docket No. CP15-558-000 (January 19 Order).¹ In this application, PennEast has proposed a series of changes to the Project route approved as conditioned in the Certificate Order, all as more fully set forth in the application which is on file with the Commission and open to public inspection.

¹ PennEast Pipeline Company, LLC, 162 FERC ¶ 61,053 (2018), order on reh'g 164 FERC ¶ 16,098 (2018).

PennEast states that the proposed changes to the Project route address agency and landowner requests, and reduce environmental and landowner impacts. The proposed modifications include realignments and an adjustment in Luzerne, Carbon, Monroe, and Northampton Counties, in Pennsylvania. Among other route changes, PennEast proposes a realignment of the project route to implement an alternate crossing of the Appalachian Trail to be collocated with an existing easement. The other modifications include two (2) minor route realignments and one (1) workspace adjustment. Except for the realignment of the Appalachian Trail crossing, PennEast states that all other realignments and adjustment are within 0.25 mile of the existing Project route approved in the January 19 Order.

Questions regarding this filing may be directed Jeffrey D. England, Project Manager PennEast Pipeline Company, LLC, One Meridian Boulevard, Suite 2C01, Wyomissing, PA 19610; Phone: (610) 373-7999, Email: jengland@ugies.com.

This filing is available for review at the Commission's Washington, DC offices, or may be viewed on the Commission's website at http://www.ferc.gov using the “e-Library” link. Enter the docket number, excluding the last three digits, in the docket number field to access the document. For assistance, please contact FERC Online Support at FERCOnlineSupport@ferc.gov, or call toll-free at (866) 208-3676, or for TTY, contact (202) 502-8659.

There are two ways to become involved in the Commission's review of this Project. First, any person wishing to obtain legal status by becoming a party to the proceeding for this project should file with the Federal Energy Regulatory Commission, 888 First Street NE, Washington, DC 20426, a motion to intervene in accordance with the requirements of the Commission's Rules of Practice and Procedure, 18 CFR 385.214, 385.211 (2016), by the comment date below. A person obtaining party status will be placed on the service list maintained by the Secretary of the Commission, and will receive copies of all documents filed by the applicant and by all other parties. A party must submit filings made with the Commission by mail, hand delivery, or internet, in accordance with Rule 2001 of the Commission's Rules of Practice and Procedure, id. 385.2001. A copy must be served on every other party in the proceeding. Only parties to the proceeding can ask for court review of Commission orders in the proceeding.

However, a person does not have to intervene to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Protests and interventions may be filed electronically via the internet in lieu of paper; see 18 CFR 385.2001(a)(1)(iii) and the instructions on the Commission's website under the “e-filing” link. The Commission strongly encourages electronic filings.

As of the February 27, 2018 date of the Commission's order in Docket No. CP16-4-001, the Commission will apply its revised practice concerning out-of-time motions to intervene in any new Natural Gas Act section 3 or section 7 proceeding.² Persons desiring to become a party to a certificate proceeding are to intervene in a timely manner. If seeking to intervene out-of-time, the movant is required to “show good cause why the time limitation should be waived,” and should provide justification by reference to factors set forth in Rule 214(d)(1) of the Commission's Rules and Regulations.³

² Tennessee Gas Pipeline Company, L.L.C., 162 FERC ¶ 61,167 at ¶ 50 (2018).

³ 18 CFR 385.214(d)(1).

If the Commission decides to set the application for a formal hearing before an Administrative Law Judge, the Commission will issue another notice describing that process. At the end of the Commission's review process, a final Commission order approving or denying the requested authorizations will be issued.

Comment Date: 5:00 p.m. Eastern Time, March 8, 2019.

Dated: February 15, 2019.
Nathaniel J. Davis, Sr.,
Deputy Secretary.

[FR Doc. 2019-03140 Filed 2-22-19; 8:45 am]

BILLING CODE 6717-01-P